DEPARTMENT OF COMMERCE

Census Bureau

Agency Information Collection Activities; Submission to the Office of Management and Budget (OMB) for Review and Approval; Comment Request; Automated Export System

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 11, 2025 during a 60-day comment period. This notice allows for an additional 30 days for public comments.

Agency: U.S. Census Bureau, Commerce.

Title: Automated Export System.

OMB Control Number: 0607-0152.

Form Number(s): Automated Export System (AES).

Type of Request: Regular submission, Request for an Extension, without Change, of a Currently Approved Collection.

Number of Respondents: 16,768,118.

Average Hours per Response: 3 minutes per AES transaction.

Burden Hours: 838,406.

Needs and Uses: Title 13, United States Code (U.S.C.), Chapter 9, Section 301 authorizes the U.S. Census Bureau (Census Bureau) to collect, compile and publish trade data. Title 15, Code of Federal Regulations (CFR), Part 30, known as the Foreign Trade Regulations (FTR), contains the regulatory provisions for preparing and filing Electronic Export Information (EEI) in the Automated Export System (AES). The Census Bureau uses the AES or successor system as the instrument for collecting export trade data from parties exporting commodities from the United States. In addition to the collection of data, the Census Bureau compiles these export data from the AES, and these data are the basis for the official U.S. trade statistics on exports of commodities. These statistics are used to determine the balance of international trade and are designated for use as a principal economic indicator. The Census Bureau releases these statistics monthly according to the U.S. International Trade in Goods and Services Press Release Schedule.

These data are used in the development of U.S. government economic and foreign trade policies, including export control purposes under Title 50, U.S.C. The Bureau of Industry (BIS) and Security, U.S. Customs and Border Protection (CBP), and other enforcement agencies use these data to detect and prevent the export of certain items by unauthorized parties to unauthorized destinations or end users. Additionally, the data enables U.S. businesses to develop practical export marketing strategies as well as provide a means for the assessment of the impact of exports on the domestic economy.

The Census Bureau requires mandatory filing of all export information via the Automated Export System (AES). This requirement is mandated through Public Law 107-228 of the Foreign Trade Relations Act of 2003. This law authorizes the Secretary of Commerce with the concurrences of the Secretary of State and the Secretary of Homeland Security to require all persons who file export information according to Title 13, United States Code (U.S.C.), Chapter 9, to file such information through the AES.

The clearance under Office of Management and Budget (OMB) Number 0607-0152 covers the Automated Commercial Environment (ACE) AESDirect Record Formats and related documents, including the AES Letter of Intent, ACE Exporter Account Application and Quick Reference Guide, AES Certification Statements, and the ACE AESDirect User Guide. With this submission, the Census Bureau is requesting continued clearance of the AES program.

The AES is the primary instrument used for collecting export trade data, which are used by the Census Bureau for statistical purposes. Title 13, U.S.C., Chapter 9, Sections 301-307, mandates the collection of these data. The regulatory provisions for the collection of these data are contained in the Foreign Trade Regulations (FTR), Title 15, Code of Federal Regulations (CFR), Part 30. The official export statistics collected from these tools provide the basic component for the compilation of the U.S. position on merchandise trade. These data are an essential component of the monthly totals provided in the U.S. International Trade in Goods and Services (FT-900) Press Release, a principal federal economic indicator, and a primary component of the Gross Domestic Product. The published export data enable the private and public sectors to develop practical marketing strategies as well as provide a means to assess the impact of exports on the domestic economy. These data are used in the development of U.S. government economic and foreign trade policies, including export control purposes under the Export Control Reform Act of 2018, 50 U.S.C. 4801-4852. The Bureau of Industry and Security (BIS), U.S. Customs and Border Protection (CBP), and other enforcement agencies use these data to detect and prevent the export of certain items by unauthorized parties to unauthorized destinations or end users. This information is noted in the ACE AESDirect User Guide.

In order to publish accurate export trade statistics, the Census Bureau is responsible for maintaining the FTR, which implements the provisions for filing export information in the AES. In addition to the publication of the FT-900, the Census Bureau releases data on imports of steel mill products in advance of the regular monthly trade statistics release. This exception to the normal procedure was initially approved by the OMB in January 1999 and had been subsequently extended annually through means of a separately submitted memo. This exception permitted the public release of preliminary monthly data on imports of steel under the provisions of the OMB's Statistical Policy Directive No. 3 on the Compilation, Release and Evaluation of Principal Federal Economic Indicators. With the revision to the AES Program in 2019, the Census Bureau eliminated the need for an annual approval from OMB since it is included in the Information Collection Request (ICR).

The Census Bureau recognizes that FTR revisions should maintain our ability to collect, compile, and deliver complete, accurate, and timely trade statistics while also supporting export control and enforcement efforts. To that end, on August 14, 2025, the Census Bureau issued a Final Rule titled, “Foreign Trade Regulations (FTR): Clarification of Filing Requirements Regarding In-transit Shipments and other FTR Provisions”. This final rule, clarified its regulations governing in-transit shipments from foreign countries through the United States that are subsequently exported to a foreign destination and revised several regulatory sections, including definitions, filing requirements, confidentiality protocols, penalty provisions, and voluntary self-disclosure processes to ensure greater clarity, accuracy, and consistency throughout the FTR.

Additionally, the Census Bureau intends to issue a Notice of Proposed Rulemaking (NPRM) to propose the addition of a conditional data element, country of origin for foreign origin commodities. The Census Bureau will also address the concerns raised in previous OMB Clearance Packages related to the collection of duplicative information in a future rule.

The trade community recommended the State of Origin field be removed because it is duplicative information that is captured in the Address of Origin section. The Census Bureau acknowledges the duplicative nature of the State of Origin data element and intends to revisit.

The information collected via the AES conveys what is being exported (description and commodity classification number); how much is exported (quantity, shipping weight, and value); how it is exported (method of transport, exporting carrier, and whether containerized); who the parties to the transaction are (USPPI, authorized agent, and intermediate and ultimate consignees); from where (state of origin and port of export); to where (port of unloading and country of ultimate destination); and when a commodity is exported (date of exportation). Profile information on the USPPI and the authorized agent provides a contact for verification of the information.

The data collected from the AES serves as the official record of export transactions and is used by the U.S. Federal Government and the private sector. The Federal Government uses every data element in the AES. The mandatory filing requirement of the export information in AES enables the Federal Government to produce more complete, accurate and timely export statistics. The Census Bureau delegated authority to enforce the FTR to the BIS's Office of Export Enforcement along with the Department of Homeland Security's CBP and Homeland Security Investigations (HSI). The mandatory use of the AES also facilitates the enforcement by the BIS of the Export Administration Regulations for the detection and prevention of exports of national security sensitive commodities to unauthorized destinations; the enforcement by the CBP of the U.S. Department of State's International Traffic in Arms Regulations for the exports of defense articles; the validation by the Census Bureau of the Kimberly Process Certificate for the exports of rough diamonds; and enforcement and compliance by other federal agencies (i.e., Environmental Protection Agency, Drug Enforcement Agency, etc.) of regulations pertaining to export requirements.

Other Federal agencies use these data to develop the components of the merchandise trade figures used in the calculations for the balance of payments and Gross Domestic Product accounts to evaluate the effects of the value of U.S. exports; and to prepare for and assist in trade negotiations under the General Agreement on Tariffs and Trade. Collection of these data also eliminates the need to conduct additional surveys for the collection of information because the AES shows the relationship of the parties to the export transaction (as required by the Bureau of Economic Analysis (BEA). The Bureau of Labor Statistics also uses the AES data as a source for developing the export price index and by the U.S. Department of Transportation for administering the negotiation of reciprocal arrangements for transportation facilities between the U.S. and other countries.

The International Trade Administration relies heavily on the preliminary import statistics of steel mill products provided by the Census Bureau. As a part of the Government's steel initiative, the Department of Commerce was instructed by the Administration to monitor steel imports. The early release of preliminary statistics on steel mill imports allows the steel industry to identify trends and potential shifts in trade patterns and take appropriate action. A variety of parties, including government officials and the public with an interest in imports of steel products continue to use this monitoring system heavily. The FTR, Subpart F, addresses the general requirements for filing import entries with CBP in the ACE in accordance with 19 CFR, which is the source of the import data on steel mill products.

Export statistics collected from the AES aid private sector companies, financial institutions, and transportation entities in conducting market analysis and market penetration studies for the development of new markets and market-share strategies. Port authorities, steamship lines, airlines, aircraft manufacturers, and air transport associations use these data for measuring the volume and effect of air or vessel shipments and the need for additional or new types of facilities.

Frequency: On occasion.

Respondent's Obligation: Mandatory.

Legal Authority: Title 13 United States Code, Chapter 9, Section 301.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0152.

Sheleen Dumas,
Departmental PRA Compliance Officer, Office of the Under Secretary for Economic Affairs, Commerce Department.

[FR Doc. 2026-01432 Filed 1-23-26; 8:45 am]

BILLING CODE 3510-07-P